DEPARTMENT OF ENERGY

Federal Energy Regulatory Commission

[Project No. 14642-000]

San Diego County Water Authority; Notice of Preliminary Permit Application Accepted for Filing and Soliciting Comments, Motions To Intervene, and Competing Applications

On October 16, 2014, the San Diego County Water Authority, California, filed an application for a preliminary permit, pursuant to section 4(f) of the Federal Power Act (FPA), proposing to study the feasibility of the San Vicente Pumped Storage Project (Project) to be located at San Vicente reservoir, in Lakeside, California. The sole purpose of a preliminary permit, if issued, is to grant the permit holder priority to file a license application during the permit term. A preliminary permit does not authorize the permit holder to perform any land-disturbing activities or otherwise enter upon lands or waters owned by others without the owners' express permission.

The lower reservoir portion of the proposed project would consist of the following: (1) The existing San Vicente reservoir with a storage capacity of 246,000 acre-feet and a surface area of 1,600 acres at a normal maximum operating elevation of 766 feet above mean sea level (msl); (2) the existing 1,430-foot-long, 337-foot-high San Vicente roller compacted concrete (RCC) gravity dam; (3) a lower reservoir inlet/outlet structure equipped with trash racks and one or two slide gates; (4) a 230-kilovolt (kV) substation containing step-up transformers, circuit breakers, and disconnect switches; (5) a switchyard constructed at the point of interconnection; (6) an approximately 5-mile-long, 230-kV overhead or underground transmission line that would extend from the northern end of San Vicente reservoir to the 230-kV Sycamore substation and interconnect with San Diego Gas and Electric's 500-kV Sunrise Powerlink; and (7) appurtenant facilities.

The upper reservoir portion of the proposed project would include one of the following four alternatives.

Alternative A—Iron Mountain

Alternative Site A, located near Iron Mountain, approximately 3 miles northwest of the San Vicente reservoir, would consist of: (1) A reservoir with a storage capacity of 6,100 acre-feet and a surface area of 93 acres at a full pond elevation of 2,110 feet msl; (2) three RCC saddle dams measuring respectively: (i) 1,425 feet long and 35 feet high, (ii) 1,340 feet long and 75 feet high, and (iii) 838 feet long and 15 feet high; (3) a 235-foot-long, 85-foot wide, 131-foot-tall subsurface powerhouse containing two 250-MW vertical Francis variable speed reversible pump/turbine/generator units; (4) a 1,358-foot-long, 12-foot-diameter concrete-lined tailrace tunnel; (5) an upper reservoir inlet/outlet structure; (6) two 171-foot-long, 16-foot-diameter steel-lined penstocks; (7) a 1,350-foot-long, 230-kV, underground transmission line extending from the upper reservoir to the northern end of San Vicente reservoir; and (8) appurtenant facilities. This alternative would annually generate an estimated 1,022 gigawatt-hours (GWh).

Alternative B—Foster Canyon

Alternative Site B, located near Foster Canyon, approximately one-half mile northwest of the San Vicente reservoir, would consist of: (1) A reservoir with a storage capacity of 7,800 acre-feet and a surface area of 100 acres at a full pond elevation of 1,490 feet msl; (2) five RCC saddle dams measuring, respectively: (i) 1,760 feet long and 160 feet high, (ii) 838 feet long and 80 feet high, (iii) 838 feet long and 80 feet high, (iv) 1,006 feet long and 240 feet high, and (v) 3,100 feet long and 30 feet high; (3) a 235-foot-long, 88-foot-wide, 147-foot-tall subsurface powerhouse containing two 250-MW vertical Francis variable speed reversible pump/turbine/generator units; (4) a 2,244-foot-long, 18-foot-diameter concrete-lined tailrace tunnel; (5) an upper reservoir inlet/outlet structure; (6) two 326-foot-long, 22-foot-diameter steel-lined penstocks; (7) a 2,200-foot-long, 230-kV, underground transmission line extending from the upper reservoir to the northern end of San Vicente reservoir; and (8) appurtenant facilities. This alternative would annually generate an estimated 1,022 GWh.

Alternative Site C—Northeast

Alternative Site C, located 0.8 mile northeast of the San Vicente reservoir, would consist of: (1) A reservoir with a storage capacity of 7,700 acre-feet and a surface area of 60 acres at a full pond elevation of 1,600 feet msl; (2) four RCC saddle dams measuring, respectively: (i) 1,176 feet long and 260 feet high, (ii)1,508 feet long and 20 feet high, (iii) 2,500 feet long and 20 feet high, and (iv) 2,700 feet long and 20 feet high; (3) a 267-foot-long, 93-foot-wide, 179-foot-high subsurface powerhouse, containing two 250-MW vertical Francis variable speed reversible pump/turbine-motor/generator units; (4) a 1,252-foot-long, 17-foot-diameter, concrete-lined tailrace tunnel connecting the pump/turbine draft tubes with the lower reservoir inlet/outlet structure; (5) an upper reservoir inlet/outlet structure equipped with trash racks and one or two slide gates; (6) two 297-foot-long, 22-foot-diameter steel-lined penstocks; (7) a 1,200-foot-long, 230-kV, underground transmission line from the upper reservoir to the northern end of San Vicente reservoir; and (8) appurtenant facilities. This alternative would annually generate an estimated 1,022 GWh.

Alternative Site D—Southeast

Alternative Site D, located 1.8 miles southeast of the San Vicente reservoir, would include: (1) A reservoir with a storage capacity of 4,500 acre-feet and a surface area of 80 acres at a full pond elevation of 1,800 feet msl; (2) a 2,263-foot-long, 285-foot-high RCC dam; (3) a 235-foot-long, 85-foot-wide, 131-foot-tall subsurface powerhouse containing two 250-MW vertical Francis variable speed reversible pump/turbine-motor/generator units; (4) a 1,415-foot-long, 13-foot-diameter concrete-lined tailrace tunnel; (5) an upper reservoir inlet/outlet structure; (6) two 180-foot-long, 17-foot-diameter steel-lined penstocks; (7) a 1,400-foot-long, 230-kV, underground transmission line extending from the upper reservoir to the northern end of San Vicente reservoir; and (8) appurtenant facilities. This alternative would annually generate an estimated 715 GWh.

Applicant Contact: Ms. Maureen Stapleton, General Manager, San Diego County Water Authority, 4677 Overland Avenue, San Diego, California 92123; phone: (858) 522-6781.

FERC Contact: Joseph Hassell, phone: (202) 502-8079.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14642-000.

More information about this project, including a copy of the application, can be viewed or printed on the “eLibrary” link of Commission's Web site at http://www.ferc.gov/docs-filing/elibrary.asp. Enter the docket number (P-14642) in the docket number field to access the document. For assistance, contact FERC Online Support.

Dated: October 30, 2014.
Kimberly D. Bose,
Secretary.

[FR Doc. 2014-26391 Filed 11-5-14; 8:45 am]

BILLING CODE 6717-01-P